DEPARTMENT OF VETERANS AFFAIRS

Privacy Act of 1974; Matching Program

AGENCY: Department of Veterans Affairs (VA).

ACTION: Notice of a new matching program.

SUMMARY: This is an 18-month re-establishment computer matching agreement (CMA) with the Defense Manpower Data Center (DMDC), Department of Defense (DoD) and the Department of Veterans Affairs (VA), Veterans Benefits Administration (VBA), regarding Veterans who are in receipt of drill pay and also in receipt of compensation or pension benefits. The purpose of this agreement is to verify eligibility for DoD/USCG members of the Reserve forces who receive VA disability compensation or pension to receive, in lieu and upon election, military pay and allowances when performing reserve duty. Veterans who perform reserve duty must choose the monetary benefit they prefer and waive the other. VA will use the DoD reserve military pay data in the VA-DoD Identity Repository (VADIR) to match against VA recipients of VA disability compensation or pension. DMDC sends reserve military pay data to VADIR monthly; the data provided by DMDC include all data elements required for the match. VA will use this information to make, where appropriate, necessary VA payment adjustments.

DATES: Comments on this matching program must be received no later than June 7, 2021. If no public comment is received during the period allowed for comment or unless otherwise published in the Federal Register by VA, the new agreement will become effective a minimum of 30 days after date of publication in the Federal Register. If VA receives public comments, VA shall review the comments to determine whether any changes to the notice are necessary. This matching program will be valid for 18 months from the effective date of this notice.

ADDRESSES: Comments may be submitted through www.Regulations.gov or mailed to VA Privacy Service, 810 Vermont Avenue NW, (005R1A), Washington, DC 20420. Comments should indicate that they are submitted in response to 2021 CMA 89 DoD Drill Reserve Pay. Comments received will be available at regulations.gov for public viewing, inspection or copies.

FOR FURTHER INFORMATION CONTACT: Tatia McBride (VBA) (202) 632-8927.

SUPPLEMENTARY INFORMATION: This matching program between VA, VBA and DMDC, DoD identifies beneficiaries who are in receipt of certain VA benefit payments and who also have performed military drill pay. VBA uses the DoD data provided in the match to adjust their benefits, if needed. This agreement continues an arrangement for a periodic computer-matching program between VBA as the matching recipient agency and DoD as the matching source agency. This agreement sets forth the responsibilities of VBA and DoD with respect to information disclosed pursuant to this agreement and takes into account both agencies' responsibilities under the Privacy Act of 1974, as amended (5 U.S.C. 552a), Office of Management and Budget (OMB) Guidelines pertaining to computer matching (54 FR 25818, June 19, 1989), and OMB Circular No. A-108 (81 FR 94424 dated December 23, 2016.

Participating Agencies: The United States Department of Veterans Affairs (VA), Veterans Benefits Administration (VBA) as the matching recipient agency and the United States Department of Defense (DoD), Defense Manpower Data Center (DMDC) as the matching source agency.

Authority for Conducting the Matching Program: 38 U.S.C. 5304(c), Prohibition Against Duplication of Benefits, provides that VA disability compensation or pension based upon a person's previous military service shall not be paid to that person for any period for which such person receives active service pay. 10 U.S.C. 12316, Payment of Certain Reserves While on Duty, further provides that a Reservist who is entitled to disability payments due to his or her earlier military service and who performs duty for which he or she is entitled to DoD/USCG compensation may elect to receive for that duty either the disability payments, or if he or she waives such payments, the DoD/USCG compensation for the duty performed.

Purpose(s): The purpose of this agreement is to verify eligibility for DoD/USCG members of the Reserve forces who receive VA disability compensation or pension to receive, in lieu and upon election, military pay and allowances when performing reserve duty. Veterans who perform reserve duty must choose the monetary benefit they prefer and waive the other.

Categories of Individuals: The following categories of individuals will be covered by this system:

1. Veterans who have applied for compensation for service-connected disability under 38 U.S.C. chapter 11.

2. Veterans who have applied for nonservice-connected disability under 38 U.S.C. chapter 15.

The category of the individuals covered by the VADIR database encompasses Veterans and service members. This would include current and separated service members.

Categories of Records: The record, or information contained in the record, may include identifying information such as name, Social Security Number (SSN), date of birth, training days and paid active duty days.

System(s) of Records: VA will use the system of records identified as “Compensation, Pension, Education and Vocational Rehabilitation and Employment Records-VA (58 VA 21/22/28),” published at 74 FR 29275 (June 19, 2009), last amended at 84 FR 4138 on February 14, 2019. VA will also use the system of records identified as “Veterans Affairs/Department of Defense Identity Repository (VADIR)-VA (138VA005Q),” published at 74 FR 37093 (July 27, 2009).

Signing Authority

The Senior Agency Official for Privacy, or designee, approved this document and authorized the undersigned to sign and submit the document to the Office of the Federal Register for publication electronically as an official document of the Department of Veterans Affairs. Joseph S. Stenaka, Executive Director for Information Security Operations, Chief Privacy Officer and Chair of the VA Data Integrity Board approved this document on April 27, 2021 for publication.

Dated: May 4, 2021.
Amy L. Rose,
Program Analyst, VA Privacy Service, Office of Information Security, Office of Information and Technology, Department of Veterans Affairs.

[FR Doc. 2021-09737 Filed 5-6-21; 8:45 am]

BILLING CODE P